POSTAL SERVICE

Philadelphia, PA 30th Street Post Office Property Disposition

AGENCY: Postal Service.

ACTION: Notice.

SUMMARY: Notice is hereby given of the disposition of Postal Service(tm) property, the 30th Street Main Post Office located in Philadelphia, PA.

DATES: Comments must be submitted on or before April 30, 2007.

ADDRESSES: Comments may be mailed to Dallan Wordekemper, Postal Service, Federal Preservation Officer, 4301 Wilson Boulevard, Suite 300, Arlington VA 22203-1961.

FOR FURTHER INFORMATION CONTACT: Dallan Wordekemper, 703-526-2779.

SUPPLEMENTARY INFORMATION: In June 2006, the construction of the new Postal Service Processing and Distribution Center in southwest Philadelphia, Pennsylvania was completed. With the opening of this new facility, the Postal Service is vacating much of its property in west Philadelphia. According to Section 106 of the National Historic Preservation Act of 1966 (NHPA), federal agencies including the Postal Service, are required to take into account the effects of their undertakings on historic properties, and afford the Advisory Council on Historic Preservation, the State Historic Preservation Officer, the public, and other consulting parties, a reasonable opportunity to comment on those undertakings.

Consistent with the disposition of its properties and as required by Section 106 of NHPA, the Postal Service is serving notice of this undertaking and is seeking comments from the public on the disposition of three properties: the Main Post Office, the Truck Terminal Annex, and the fourteen acre parking lot. The Postal Service will continue to maintain operations and ownership at the Vehicle Maintenance Facility located at the southwest corner of Chestnut and 30th streets; this building is not part of the disposition.

The Main Post Office building, constructed from 1931-1935, stands prominently at the southeast corner of Market and 30th streets, and it extends a full city block south to Chestnut Street and east to Schuylkill Avenue. It is six stories in height and encompasses 927,183 gross square feet. The Main Post Office building is listed on the National Register of Historic Places. The Truck Terminal Annex building, constructed in 1962, is situated on the southeast corner of Chestnut and 30th streets, and it extends a full city block south to Walnut Street and east to Schuylkill Avenue. The building is a three-story structure and measures 171,902 gross square feet. The third piece of property in this disposition of Postal Service properties is a fourteen acre parking lot that is situated south of the Truck Terminal Annex building, south of Walnut Street, east of the Schuylkill Expressway and Amtrak railroad, and west of rail High Line.

In May 2007, the Postal Service plans to convey the Main Post Office to the University of Pennsylvania or its assignee, and the Truck Terminal Annex building and the fourteen acres of land to the University of Pennsylvania. The Postal Service is in consultation with the Pennsylvania State Historic Preservation Officer and the Advisory Council on Historic Preservation and all improvements will meet the Secretary of the Interior Standards for Historic Rehabilitation. Interested persons may obtain more detailed information about this action at the retail store located in the main branch at 2970 Market Street, Philadelphia PA.

Neva R. Watson,
Attorney, Legislative.

[FR Doc. E7-7814 Filed 4-23-07; 8:45 am]

BILLING CODE 7710-12-P